DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Commercial Operator's Annual Report (COAR).

Form Number(s): None.

OMB Approval Number: 0648-0428.

Type of Request: Regular submission.

Burden Hours: 792.

Number of Respondents: 99.

Average Hours Per Response: Interim reports, 9 hours and 45 minutes; and final reports, 11 hours and 45 minutes.

Needs and Uses: The Commercial Operator's Annual Report (COAR) provides information on ex-vessel value (the total dollar value for fish in any product form of groundfish pounds before any deductions are made for goods and services, e.g., bait, ice, fuel, repairs, machinery replacement, etc., provided to groundfish harvesters. Includes price adjustments made in the current year to groundfish harvesters for landings made during the fishing year); and first wholesale value for statewide Alaska fish and shellfish products.

This information is used to analyze and measure the impact of proposed or enacted management measures. The National Marine Fisheries Service requires owners of catcher/processors and motherships operating in the Exclusive Economic Zone off Alaska to complete the State of Alaska, Department of Fish and Game COAR.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 4, 2007.
Gwellnar Banks,
Management Analyst, Office of the Chief Information Officer.

[FR Doc. E7-6664 Filed 4-9-07; 8:45 am]

BILLING CODE 3510-22-P